DEPARTMENT OF JUSTICE

Notice of Lodging of Proposed Modification To Consent Decree Under the Clean Water Act

On December 15, 2015, a proposed Modification to the 2011 Consent Decree in Environment Rhode Island et al. and the United States and Rhode Island v. City of Newport, Rhode Island, Civil Action No. 08-265S, was filed with the United States District Court for Rhode Island.

On October 18, 2011, the Court entered the 2011 Consent Decree between the parties resolving Plaintiffs' claims that the City of Newport violated the Clean Water Act (the “CWA”), 33 U.S.C. 1319(b) and (d) resulting from Newport's operation of its sewer system and wastewater control plant. As part of the injunctive relief provisions of the 2011 Consent Decree, Newport was required to investigate the configuration of its sewer system and analyze additional work needed to eliminate discharges of sanitary sewer waste and comply with the CWA. That portion of the injunctive relief has been completed and the new information obtained during this investigation requires the alteration of certain deadlines and types of work contained in the 2011 Consent Decree.

The publication of this notice opens a period for public comment on the proposed Modification to the 2011 Consent Decree. Comments should be addressed to the Assistant Attorney General, Environment and Natural Resources Division, and should refer to: Environment Rhode Island et al. and the United States and Rhode Island v. City of Newport, Rhode Island, Civil Action No. 08-265S, D.J. Ref. 90-5-1-1-09855. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Modification to the 2011 Consent Decree may be examined and downloaded at this Justice Department Web site: http://www.justice.gov/enrd/consent-decrees. We will provide a paper copy of the proposed Modification to the 2011 Consent Decree upon written request and payment of reproduction costs. Please mail your request and payment to: Consent Decree Library, U.S. DOJ—ENRD, P.O. Box 7611, Washington, DC 20044-7611.

Please enclose a check or money order for $5.00 (25 cents per page reproduction cost) payable to the United States Treasury.

Robert E. Maher Jr.,
Assistant Section Chief, Environmental Enforcement Section, Environment and Natural Resources Division.

[FR Doc. 2015-32102 Filed 12-21-15; 8:45 am]

BILLING CODE 4410-15-P